ENVIRONMENTAL PROTECTION AGENCY

[EPA-HQ-OECA-2006-0448; FRL-8245-7]

Agency Information Collection Activities; Submission to OMB for Review and Approval; Comment Request; NSPS for Steel Plants: Electric Arc Furnaces and Argon-Oxygen Decarburization Vessels (Renewal) ICR Number 1060.14, OMB Number 2060-0038

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before December 22, 2006.

ADDRESSES: Submit your comments, referencing docket ID number EPA-HQ-OECA-2006-0448, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malava.maria@epa.gov.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments. Any additional comments on this ICR should be submitted to EPA and OMB within 30 days of this notice.

EPA has established a public docket for this ICR under docket ID number EPA-HQ-OECA-2006-0448, which is available for public viewing online at http://www/regulations.gov, or in person viewing at the Enforcement and Compliance Docket in the EPA Docket Center (EPA/DC), EPA West, Room B 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to www.regulations.gov.

Title: NSPS for Steel Plants: Electric Arc Furnaces and Argon-Oxygen Decarburization Vessels (Renewal).

ICR Numbers: EPA ICR Number 1060.14, OMB Control Number 2060-0038.

ICR Status: This ICR is scheduled to expire on November 30, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The New Source Performance Standards (NSPS) for electric arc furnaces were proposed on October 21, 1974 (39 FR 37466) and promulgated on September 23, 1975 (40 FR 43850). These standards apply to the following affected facilities in steel plants that produce carbon, alloy, or specialty steels: Electric arc furnaces (EAFs) and dust handling systems commencing construction, modification or reconstruction after the date of proposal and on or before August 17, 1983. A review of 40 CFR part 60, subpart AA in 1980 resulted in the promulgation of a new standard (NSPS 40 CFR part 60, subpart AAa). The review of NSPS subpart AA found that fugitive emissions capture technology had improved since promulgation of NSPS subpart AA, and that argon-oxygen decarburization (AOD) vessels are a significant source of particulates in specialty steel shops. NSPS, subpart AAa was proposed on August 17, 1983 and promulgated on October 31, 1984. The new standard established new standards applicable to EAFs, AOD vessels, and dust handling systems constructed, modified, or reconstructed after August 17, 1983. On March 2, 1999, the Agency promulgated a direct final rule to amend subparts AA and AAa in response to a petition made by the Common Sense Initiative Council, established under a charter approved pursuant to the Federal Advisory Committee Act (FACA), which approved daily visible emissions observations as an alternative to static pressure monitoring at an EAF with a direct shell evacuation system, and clarified some definitions.

In general, all NSPS standards require initial notifications, performance tests, and periodic reports. Owners or operators are also required to maintain records of the occurrence and duration of any startup, shutdown, or malfunction in the operation of an affected facility, or any period during which the monitoring system is inoperative. These notifications, reports, and records are essential in determining compliance, and are required of all sources subject to NSPS. Any owner or operator subject to the provisions of this part shall maintain a file of these measurements, and retain the file for at least two years following the date of such measurements, maintenance reports, and records.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 308 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: plants with electric arc furnaces, AOD vessels, and dust handling systems that produce carbon, alloy, or specialty steels.

Estimated Number of Respondents: 97.

Frequency of Response: Initially and semiannually.

Estimated Total Annual Hour Burden: 60,112 hours (rounded).

Estimated Total Cost: $5,286,222, which includes $4,140 annualized capital startup costs, $194,250 annual Operating and Maintenance (O&M) costs, and $5,087,832 annual labor cost.

Changes in the Estimates: There is a decrease of 288 hours from the most recently approved ICR due primarily to a change made in the number of operational days from 365 to 350 which offsets any increase that resulted from the increase on the number of average respondents per year from 95.3 to 96.6. The labor hours for management, clerical, as well as for technical employees have been updated.

The decrease in the annualized capital/startup and operation and maintenance costs from $285,750 to $198,390 is due to a decrease on the number of respondents using continuous opacity monitors (COMs) for compliance with the stack emissions requirements. This is an update to the most recently approved ICR (i.e., ICR 1060.13) which did not account for this type of burden change as a result of the 2005 amendments to the standard. The operation and maintenance costs for the renewal of this ICR decreased due to a decrease in the number of sources using COMs as a result of electing to comply with the alternative option of daily opacity shop observations by a certified visible emission observer couple with the use of bag leak detection systems (BLDS).

Dated: November 15, 2006.
Oscar Morales,
Director, Collection Strategies Division.

[FR Doc. E6-19754 Filed 11-21-06; 8:45 am]

BILLING CODE 6560-50-P